DEPARTMENT OF COMMERCE

Foreign-Trade Zones Board

[B-54-2017]

Foreign-Trade Zone (FTZ) 277—Western Maricopa County, Arizona; Notification of Proposed Production Activity; CornellCookson, Inc. (Rolling Steel Doors); Goodyear, Arizona

Greater Maricopa Foreign Trade Zone, Inc., grantee of FTZ 277, submitted a notification of proposed production activity to the FTZ Board on behalf of CornellCookson, Inc. (CornellCookson) for its facility in Goodyear, Arizona within FTZ 277. The notification conforming to the requirements of the regulations of the FTZ Board (15 CFR 400.22) was received on July 19, 2017.

CornellCookson already has authority to produce rolling steel doors within Site 11 of FTZ 277. The current request would add foreign status components to the scope of authority. Pursuant to 15 CFR 400.14(b), additional FTZ authority would be limited to the specific foreign-status materials/components described in the submitted notification (as described below) and subsequently authorized by the FTZ Board.

Production under FTZ procedures could exempt CornellCookson from customs duty payments on the foreign-status components used in export production. On its domestic sales, for the foreign-status components noted below, CornellCookson would be able to choose the duty rates during customs entry procedures that apply to rolling steel doors (duty free). Customs duties also could possibly be deferred or reduced on foreign-status production equipment.

The components sourced from abroad include: Steel chains and parts; release pins; motor mounting kits; chain sprockets; centrifugal switches; electrical rectifiers and power supplies; alarm speakers; electrical motor overload protectors; electrical switches; electrical control panels (less than 1,000 volts); electrical cables and conductors; AC motor heaters; and, AC motor encoders (duty rate ranges from duty-free to 5.7%).

Public comment is invited from interested parties. Submissions shall be addressed to the Board's Executive Secretary at the address below. The closing period for their receipt is October 2, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Qahira El-Amin at Qahira.El-Amin@trade.gov or (202) 482-5928.

Dated: August 16, 2017.
Andrew McGilvray,
Executive Secretary.

[FR Doc. 2017-17697 Filed 8-21-17; 8:45 am]

BILLING CODE 3510-DS-P